DEPARTMENT OF COMMERCE

National Oceanic and Atmospheric Administration

50 CFR Part 622

[Docket No. 100120037-1626-02]

RIN 0648-XD549

Fisheries of the Caribbean, Gulf of Mexico, and South Atlantic; 2014 Accountability Measures and Closure for Commercial Wrasses in the U.S. Caribbean Off Puerto Rico

AGENCY: National Marine Fisheries Service (NMFS), National Oceanic and Atmospheric Administration (NOAA), Commerce.

ACTION: Temporary rule; accountability measure.

SUMMARY: NMFS implements accountability measures (AMs) for commercial wrasses in the exclusive economic zone of the U.S. Caribbean (EEZ) off Puerto Rico for the 2014 fishing year through this temporary rule. NMFS has determined that the commercial annual catch limit (ACL) for wrasses off Puerto Rico, as estimated by the Science and Research Director (SRD), was exceeded based on average landings during the 2011-2012 fishing years. This temporary rule reduces the length of the 2014 commercial fishing season for wrasses off Puerto Rico by the amount necessary to ensure that landings do not exceed the commercial ACL in 2014. NMFS implements AMs and closes the commercial sector for wrasses off Puerto Rico at 12:01 a.m., local time, on October 20, 2014, through the end of the fishing year, December 31, 2014. These AMs are necessary to protect the Caribbean wrasses resource.

DATES: The AMs for commercial wrasses in the EEZ off Puerto Rico are effective 12:01 a.m., local time, October 20, 2014, until 12:01 a.m., local time, January 1, 2015.

FOR FURTHER INFORMATION CONTACT: William S. Arnold, telephone: 727-824-5305, email: Bill.Arnold@noaa.gov.

SUPPLEMENTARY INFORMATION: The reef fish fishery of the Caribbean, which includes wrasses (i.e., hogfish (Lachnolaimus maximus), puddingwife (Halichoeres radiatus), and Spanish hogfish (Bodianus rufus)), is managed under the Fishery Management Plan for the Reef Fish Fishery of Puerto Rico and the U.S. Virgin Islands (FMP). The FMP was prepared by the Caribbean Fishery Management Council and is implemented under the authority of the Magnuson-Stevens Fishery Conservation and Management Act (Magnuson-Stevens Act) by regulations at 50 CFR part 622. The ACLs specified in this temporary rule are given in round weight.

The commercial ACL for wrasses in the Puerto Rico management area is 54,147 lb (24,561 kg), as specified at 50 CFR 622.12(a)(1)(i)(L).

In accordance with regulations at 50 CFR 622.12(a), if landings from a Caribbean island management area, as specified in Appendix E to part 622, are estimated by the SRD to have exceeded the applicable ACL, the Assistant Administrator for Fisheries, NOAA, (AA), will file a notification with the Office of the Federal Register to reduce the length of the fishing season for the applicable species or species groups that year by the amount necessary to ensure landings do not exceed the applicable ACL, as specified at 50 CFR 622.12(a)(1) for Puerto Rico management area species or species groups. Landings will be evaluated relative to the applicable ACL based on a moving multi-year average of landings, as described in the FMP. The most recent data is from the 2011 and 2012 fishing years. Data from 2013 are not available at this time. Therefore, NMFS has determined the commercial ACL for wrasses based on 2011-2012 data has been exceeded. This temporary rule implements AMs for the commercial sector for wrasses to reduce the 2014 fishing season to ensure landings do not exceed the commercial ACL for wrasses in the 2014 fishing year. The 2014 fishing season for the commercial sector for wrasses in or from the Puerto Rico management area of the EEZ ends at 12:01 a.m., local time, on October 20, 2014. The 2015 fishing season begins 12:01 a.m., local time, January 1, 2015.

Classification

The Regional Administrator, Southeast Region, NMFS, has determined this temporary rule is necessary for the conservation and management of wrasses in the U.S. Caribbean off Puerto Rico and is consistent with the Magnuson-Stevens Act, the FMP, and other applicable laws.

This action is taken under 50 CFR 622.12(a) and is exempt from review under Executive Order 12866.

These measures are exempt from the procedures of the Regulatory Flexibility Act because the temporary rule is issued without opportunity for prior notice and comment.

This action responds to the best scientific information available. The Assistant Administrator for Fisheries, NOAA (AA), finds good cause to waive the requirements to provide prior notice and opportunity for public comment pursuant to the authority set forth at 5 U.S.C. 553(b)(B) as such prior notice and opportunity for public comment is unnecessary and contrary to the public interest. Such procedures are unnecessary because the rules implementing the ACLs and AMs for these species and species groups have been subject to notice and comment, and all that remains is to notify the public that the ACLs were exceeded and that the AMs for wrasses are being implemented for the 2014 fishing year. Allowing prior notice and opportunity for public comment is contrary to the public interest because of the need to immediately implement this action to protect the wrasses resource. The capacity of the fishing fleet allows for rapid harvest of the ACL and prior notice and opportunity for public comment would result in a harvest well in excess of the established commercial ACL.

For the aforementioned reasons, the AA also finds good cause to waive the 30-day delay in the effectiveness of this action under 5 U.S.C. 553(d)(3).

Authority: 16 U.S.C. 1801 et seq.

Dated: October 15, 2014.
Alan D. Risenhoover,
Director, Office of Sustainable Fisheries, National Marine Fisheries Service.

[FR Doc. 2014-24924 Filed 10-16-14; 11:15 am]

BILLING CODE 3510-22-P